SECURITIES AND EXCHANGE COMMISSION

[Release No. 34-49707; File No. PCAOB-2003-10]

Public Company Accounting Oversight Board; Order Approving Proposed Auditing Standard No. 1, References in Auditors' Reports to the Standards of the Public Company Accounting Oversight Board (“Auditing Standard No. 1”)

May 14, 2004.

I. Introduction

On December 23, 2003, the Public Company Accounting Oversight Board (the “Board” or the “PCAOB”) filed with the Securities and Exchange Commission (the “Commission”) proposed Auditing Standard No. 1, References in Auditors” Reports to the Standards of the Public Company Accounting Oversight Board (“Auditing Standard No. 1”) pursuant to sections 101, 103 and 107 of the Sarbanes-Oxley Act of 2002 (the “Act”).¹ Auditing Standard No. 1 would require registered public accounting firms to refer to the standards of the PCAOB in their audit reports, rather than to U.S. generally accepted auditing standards, or “GAAS,” as is currently the case. Notice of the proposed standard was published in the Federal Register on April 9, 2004,² and the Commission received five comment letters. For the reasons discussed below, the Commission is granting approval of the proposed standard. Simultaneously with this order, the Commission also is issuing an interpretive release to address certain implementation issues relating to Auditing Standard No. 1.

¹ 15 U.S.C. 7201, et seq.

² Release No. 34-49528 (April 6, 2004).

II. Description

The Act establishes the PCAOB to oversee the audits of public companies and related matters, to protect investors, and to further the public interest in the preparation of informative, accurate and independent audit reports.³ Section 103(a) of the Act directs the PCAOB to establish auditing and related attestation standards, quality control standards, and ethics standards to be used by registered public accounting firms in the preparation and issuance of audit reports as required by the Act or the rules of the Commission. The Board has defined the term “auditing and related professional practice standards” to mean the standards established or adopted by the Board under section 103(a) of the Act.

³ Section 101(a) of the Act.

The Board's proposed Auditing Standard No. 1 requires that an auditor's report issued in connection with any engagement performed in accordance with the auditing and related professional practice standards of the PCAOB state that the engagement was performed in accordance with “the standards of the Public Company Accounting Oversight Board (United States).” The auditor also must include in its report the city and state (or city and country, in the case of non-U.S. auditors) from which the auditor's report was issued.

Audit reports currently are required to state that the audits that supported those reports were performed in accordance with generally accepted auditing standards.⁴ The PCAOB adopted those generally accepted auditing standards, including their respective effective dates, as they existed on April 16, 2003, as interim PCAOB standards. Therefore, changing the reference from “generally accepted auditing standards” to “the standards of the Public Company Accounting Oversight Board (United States)” does not change the substantive procedures performed by an auditor. Because GAAS and the standards of the PCAOB are one and the same for PCAOB-registered public accounting firms, the PCAOB believes that a reference to GAAS in auditors' reports would no longer be appropriate or necessary.

⁴ Item 2-02 (b) of Regulation S-X.

III. Discussion

The Commission received five comment letters in response to its request for comments on Auditing Standard No. 1. Several commenters sought clarification with respect to certain implementation issues. One of the issues they raised is addressed in the Commission interpretive release discussed below. The Commission staff is aware of the other issues and will consider whether any guidance is needed in the future. One commenter recommended that the PCAOB undertake a near-term project to make conforming amendments to other standards affected by Auditing Standard No. 1, and another suggested changes to the form of auditor's report that were not related to the topic of this standard. We are forwarding these comments to the PCAOB for its consideration in future standard setting. Two commenters repeated an earlier suggestion to the PCAOB that the auditor's report should specify that the audit was conducted in accordance with the auditing standards of the PCAOB rather than using a reference that included all PCAOB standards, including quality control, ethics and independence standards. In response to the earlier comments, the PCAOB declined to limit the categories of standards that might be applicable to an audit, and the Commission concurs with that position.

In order to address certain issues relating to implementation of Auditing Standard No. 1, the Commission is issuing an interpretive release simultaneously with the issuance of this order. The Commission believes that publication of the interpretive release will assist the PCAOB, registrants, auditors and investors by, among other things, addressing certain transitional implementation issues and clarifying the impact of Auditing Standard No. 1 on existing references in Commission rules and regulations to “generally accepted auditing standards.”

IV. Conclusion

On the basis of the foregoing, the Commission finds that the proposed Auditing Standard No. 1 is consistent with the requirements of the Act and the securities laws and is necessary and appropriate in the public interest and for the protection of investors.

It is thefore ordered, pursuant to section 107 of the Act and section 19(b)(2) of the Securities Exchange Act of 1934, that proposed Auditing Standard No. 1, References in Auditors' Reports to the Standards of the Public Company Accounting Oversight Board (File No. PCAOB-2003-10) be and hereby is approved.

By the Commission.
J. Lynn Taylor,
Assistant Secretary.

[FR Doc. 04-11400 Filed 5-19-04; 8:45 am]

BILLING CODE 8010-01-P